DEPARTMENT OF TRANSPORTATION

Maritime Administration

U.S. Merchant Marine Academy Board of Visitors Meeting; Cancellation of Upcoming Meeting

AGENCY: Maritime Administration

ACTION: Notice.

SUMMARY: The U.S. Department of Transportation, Maritime Administration (MARAD) is issuing this notice to cancel the June 14, 2016 U.S. Merchant Marine Academy (“Academy”) Board of Visitors (BOV) meeting scheduled to be held at 2:00 p.m. at the Capital Visitors Center, in Washington, DC. The original Federal Register notice announcing the meeting was published Wednesday, June 1, 2016, 81 FR 35118.

FOR FURTHER INFORMATION CONTACT: The BOV's Designated Federal Officer or Point of Contact Brian Blower; 202 366-2765; Brian.Blower@dot.gov.

(Authority: 46 U.S.C. 51312; 5 U.S.C. app. 552b; 41 CFR parts 102-3.140 through 102-3.165)

By Order of the Maritime Administrator.
Dated: June 14, 2016.
T. Mitchell Hudson, Jr.,
Secretary, Maritime Administration.

[FR Doc. 2016-14370 Filed 6-16-16; 8:45 am]

BILLING CODE 4910-81-P